DEPARTMENT OF COMMERCE

National Oceanic and Atmospheric Administration

50 CFR Part 660

[Docket No. 010502110-1110-01; I.D. 070501C]

Fisheries Off West Coast States and in the Western Pacific; West Coast Salmon Fisheries; Inseason Actions for the Recreational, Commercial, and Tribal Salmon Seasons from the U.S.-Canada Border to the Oregon-California Border

AGENCY: National Marine Fisheries Service (NMFS), National Oceanic and Atmospheric Administration (NOAA), Commerce.

ACTION: Inseason closure, adjustment, and two corrections to the 2001 annual management measures for the ocean salmon fishery; request for comments.

SUMMARY: NMFS announces the following inseason actions for the ocean salmon fishery: Closure of the commercial fishery for all salmon except coho in the area from the U.S.-Canada Border to Cape Falcon, OR, on June 15, 2001, at 2359 hours local time (l.t.), and modification of the weekly opening period for the commercial fishery for all salmon (except coho) in the area from Humbug Mountain to the Oregon-California Border, to be open 7 days per week effective June 15, 2001, at 0001 hours l.t. through June 30, 2001 at 2359 hours l.t. This document also contains corrections to the 2001 annual management measures for the ocean salmon fishery, which were published on May 8, 2001, and amended June 29, 2001, and July 11, 2001.

DATES: Closure in the area from the U.S.-Canada Border to Cape Falcon, OR—effective 2359 hours l.t., June 15, 2001, until the effective date of the 2002 management measures, as published in the Federal Register. Adjustment in the area from Humbug Mountain to Oregon-California Border—effective 0001 hours l.t., June 15, 2001, through the earlier of June 30, 2001, or a 1,500-chinook quota. Correction for the recreational salmon fishery from Cape Alava to Queets River—effective May 2, 2001, until the effective date of the 2002 management measures, as published in the Federal Register. Correction for the all-species treaty troll fishery for the Quinault Tribe—effective July 1, 2001, until the effective date of the 2002 management measures, as published in the Federal Register. Comments on this action will be accepted through August 28, 2001.

ADDRESSES: Submit comments to Donna Darm, Acting Regional Administrator, Northwest Region, NMFS, NOAA, 7600 Sand Point Way N.E., Bldg. 1, Seattle, WA 98115-0070; fax 206-526-6376; or Rebecca Lent, Regional Administrator, Southwest Region, NMFS, NOAA, 501 W. Ocean Blvd., Suite 4200, Long Beach, CA 90802-4132; fax 562-980-4018. Comments will not be accepted if submitted via e-mail or the Internet. Information relevant to this document is available for public review during business hours at the Office of the Regional Administrator, Northwest Region, NMFS.

FOR FURTHER INFORMATION CONTACT: Christopher Wright, 206-526-6140, Northwest Region, NMFS, NOAA.

SUPPLEMENTARY INFORMATION:

Closure From the U.S.-Canada Border to Cape Falcon, OR

The Northwest Regional Administrator, NMFS (Regional Administrator), determined that the guideline of 17,000 chinook for the area from the U.S.-Canada Border to Cape Falcon, OR, had been reached and closed the fishery for all salmon except coho on June 15, 2001. Regulations governing the ocean salmon fisheries at 50 CFR 660.409(a)(1) state that, when a quota for any salmon species in any portion of the fishery management area is projected by the Regional Administrator to be reached on or by a certain date, NMFS will, by notification issued under 50 CFR 660.411(a)(2), close the fishery for all salmon species in the portion of the fishery management area to which the quota applies, as of the date the quota is projected to be reached.

In the 2001 annual management measures for ocean salmon fisheries (66 FR 23185, May 8, 2001), NMFS announced that the commercial fishery for all salmon except coho in the area from U.S.-Canada Border to Cape Falcon, OR would open May 1, 2001, through the earlier of June 30, 2001, or a 17,000-chinook guideline.

The Washington Department of Fish and Wildlife (WDFW) reported the landed catch, as of June 10, 2001, for the commercial fishery in the area from U.S.-Canada Border to Cape Falcon, OR, was 14,300 chinook salmon. The rate of landed catch was estimated to be 500 chinook per day. Accordingly, the WDFW projected the area to reach the 17,000-chinook guideline on June 15, 2001, and recommended that NMFS close the area effective midnight on that date.

Adjustment in the Area From Humbug Mountain to the Oregon-California Border

Modification of fishing seasons is authorized by regulations at 50 CFR 660.409(b)(1)(i).

In the 2001 annual management measures for ocean salmon fisheries (66 FR 23185, May 8, 2001), NMFS announced that the commercial fishery for all salmon except coho in the area from Humbug Mountain to Oregon-California Border would open June 3, 2001, through the earlier of June 30, 2001, or a 1,500-chinook quota. The fishery was to follow a cycle of 2 days open/2 days closed, with a provision that it may be adjusted inseason to match management needs.

The Oregon Department of Fish and Wildlife (ODFW) reported that, as of June 13, 2001, both fishing effort and landed catch had been low due to poor weather conditions. Better catches in the area to the north of the area from Humbug Mountain to Oregon-California Border resulted in reduced effort in the restricted fishery. Oregon reported the catch landed in the area to date was only 37 chinook salmon. Therefore, the ODFW recommended that the weekly opening period for commercial fishing from Humbug Mountain to Oregon-California Border be adjusted to open 7 days per week effective June 15, 2001, at 0001 hours l.t. through June 30, 2001, or the 1500-chinook quota.

Corrections to the 2001 Annual Management Measures

The 2001 annual management measures for the ocean salmon fishery were published in the Federal Register on May 8, 2001 (66 FR 23185), and amended at 66 FR 34582 (June 29, 2001, and at 66 FR 36212 (July 11, 2001).

NMFS announced in the 2001 annual management measures that the recreational fishery in the area from Cape Alava to Queets River (La Push Area) would open July 1 through earlier of September 23 or subarea sub-quota of 5,350 coho; September 24 through earlier of October 21 or overall subarea quota of 5,850 (500 set-aside) coho. All salmon (7 days per week), 2 fish per day, but only 1 chinook, and all retained coho must have a healed adipose fin clip. Inseason management measure C.4 may be used to sustain season length and keep harvest within a guideline of 1,000 chinook for the general season and 100 chinook for the set-aside season. However, the late season fishery that begins September 24 was planned preseason as a geographically limited bubble fishery off the mouth of the Quillayute River and totally within 3 miles of shore.

The recreational management measures for the State of Washington included an area description for the late season bubble fishery (La Push Late Season). However, the limiting area restriction was inadvertently omitted from the 2001 annual management measures that currently allow for fishing throughout the Cape Alava to Queets River area. To rectify the inconsistency, WDFW requested that NMFS amend the 2001 annual management measures by restricting the late season fishery to the Washington State La Push Late Season Area.

The opening date for the all-species treaty troll fishery for the Quinault tribal fishery was announced in the 2001 management measures for ocean salmon fisheries as starting August 1, 2001. This was an error. The opening date should have been July 1, the same as for the other coastal treaty tribes, and as indicated in "Preseason Report III Analysis of Council-Adopted Management Measures for 2001 Ocean Salmon Fisheries." Therefore, the Quinault Tribe requested that NMFS correct the 2001 annual management measures with a July 1 opening date for the all-species treaty troll fishery.

Corrections

In the rule FR Doc. 01-11444, in the issue of May 8, 2001 (66 FR 23185), the following corrections are made:

1. On page 23191, in the first column, the first full paragraph is corrected to read as follows:

Cape Alava to Queets River (La Push Area)

July 1 through earlier of September 23 or subarea sub-quota of 5,350 coho; September 24 through earlier of October 21 or overall subarea quota of 5,850 (500 set-aside) coho (La Push Late Season). The La Push Late Season Area is limited to an area defined by a line from Teahwhit Head northwesterly to “Q” buoy to Cake Rock then true east to the shoreline. All salmon (7 days per week), 2 fish per day, but only 1 chinook, and all retained coho must have a healed adipose fin clip. Inseason management (C.4) may be used to sustain season length and keep harvest within a guideline of 1,000 chinook for the general season and 100 chinook for the set-aside season.

2. On page 23193, the second column in the table, in the last line, the description of the Open Seasons for the Quinault Tribe is corrected to read as follows: ”July 1 through earliest of September 15 or chinook or coho quota.”

The Regional Administrator consulted with representatives of the Council, WDFW, ODFW, and the California Department of Fish and Game regarding the two above-described inseason actions and two corrections at the June 2001 Council meeting in California. The best available information on June 13, 2001, indicated that the catch and effort data and catch projections supported the commercial fishery closure and the season modification. The two corrections were made with concurrence of the Council and the affected State and tribe. The states will manage the fisheries in state waters adjacent to the areas of the exclusive economic zone in accordance with these Federal actions. As provided by the inseason notice procedures of 50 CFR 660.411, actual notice to fishermen of the closure in the area from U.S.-Canada Border to Cape Falcon, Oregon, effective 2359 hours l.t., June 15, 2001, and the adjustment in the area from Humbug Mountain to Oregon-California Border effective 0001 hours l.t., June 15, 2001, were given prior to the effective dates by telephone hotline number 206-526-6667 and 800-662-9825, and by U.S. Coast Guard Notice to Mariners broadcasts on Channel 16 VHF-FM and 2182 kHz. The Quinault Tribe was notified of the correction to the all-species treaty troll fishery by letter prior to July 1, 2001.

Because of the need for immediate action to stop the fishery upon achievement of the quota for the area from the U.S.-Canada Border to Cape Falcon, OR, and for the modification of the weekly opening period for the area from Humbug Mountain to the Oregon-California Border, NMFS has determined that good cause exists for this notification to be issued without affording a prior opportunity for public comment because such notification would be unnecessary, impracticable, and contrary to the public interest. Moreover, because of the immediate need to stop the fishery upon achievement of the quota and modify the weekly opening period, the Assistant Administrator for Fisheries, NOAA (AA), finds, for good cause, under 5 U.S.C. 553(d)(3), that delaying the effectiveness of this rule for 30 days is impracticable and contrary to public interest. These actions do not apply to other fisheries that may be operating in other areas.

Furthermore, because of the need to ensure that harvest specifications are accurate, NMFS has determined that good cause exists for this notification to be issued without affording a prior opportunity for public comment because such notification would be unnecessary, impracticable, and contrary to the public interest. Moreover, because of the immediate need to correct errors, the AA finds, for good cause, under 5 U.S.C. 553(d)(3), that delaying the effectiveness of this rule for 30 days is impracticable and contrary to public interest. These actions do not apply to other fisheries that may be operating in other areas.

Classification

These actions are authorized by 50 CFR 660.409 and 660.411 and are exempt from review under Executive Order 12866.

Authority: 16 U.S.C. 1801 et seq.

Dated: August 7, 2001.
Bruce C. Morehead,
Acting Director, Office of Sustainable Fisheries, National Marine Fisheries Service.

[FR Doc. 01-20280 Filed 8-10-01; 8:45 am]

BILLING CODE 3510-22-S